DEPARTMENT OF JUSTICE

Antitrust Division

Notice Pursuant to the National Cooperative Research and Production Act of 1993—International Pharmaceutical Aerosol Consortium for Toxicology Testing of HFA-134a (IPACT-I)

Notice is hereby given that, on June 13, 2002, pursuant to Section 6(a) of the National Cooperative Research and Production Act of 1993, 15 U.S.C. 4301 et seq. (the “Act”), the International Pharmaceutical Aerosol Consortium for Toxicology Testing of HFA-134a (IPACT-I) filed written notifications simultaneously with the Attorney General and the Federal Trade Commission announcing the termination of IPACT-I, effective June 30, 2002.

Although membership in IPACT-I is no longer open, the data that IPACT-I generated on HFA-134a will continue to be available through a cost-sharing license.

On August 7, 1990, IPACT-I filed its original notification pursuant to Section 6(a) of the Act. The Department of Justice published a notice in the Federal Register pursuant to Section 6(b) of the Act on September 6, 1990 (55 FR 36710).

The last notification was filed with the Department on July 6, 2000. The Department of Justice published a notice in the Federal Register pursuant to Section 6(b) of the Act on October 10, 2000 (65 FR 60212).

Constance K. Robinson,
Director of Operations, Antitrust Division.

[FR Doc. 02-20414 Filed 8-12-02; 8:45 am]

BILLING CODE 4410-11-M